DEPARTMENT OF THE INTERIOR

Fish and Wildlife Service

Draft Candidate Conservation Agreement with Assurances and Application for an Enhancement of Survival Permit for the Page Springsnail in Yavapai County, AZ

AGENCY: Fish and Wildlife Service, Interior.

ACTION: Notice of availability; receipt of application.

SUMMARY: The Arizona Game and Fish Department (Applicant), has applied to the U.S. Fish and Wildlife Service (Service) for an enhancement of survival permit (TE-174351-0) pursuant to Section 10(a)(1)(A) of the Endangered Species Act (Act), as amended. The requested permit, which is for a period of 5 years, would authorize incidental take of the Page springsnail, Pyrgulopsis morrisoni, in the event it is listed, as a result of conservation actions, on-going fish hatchery operations, and the issuance of certificates of inclusion to other landowners. We invite public comment.

DATES: To ensure consideration, written comments must be received on or before February 28, 2008.

ADDRESSES: Persons wishing to review the application, draft Candidate Conservation Agreement with Assurances (CCAA), or other related documents may obtain a copy by written or telephone request to the Field Supervisor, U.S. Fish and Wildlife Service, Arizona Ecological Services Field Office, 2321 W. Royal Palm Rd. Ste. 103, Phoenix, Arizona 85021 (602/242-0210). Electronic copies of these documents will also be available for review on the Arizona Ecological Services Field Office Web site, http://www.fws.gov/southwest/es/arizona/. The application and documents related to application will be available for public inspection, by appointment only, during normal business hours (7:30 a.m. to 3:30 p.m.) at the Arizona Ecological Services Office. Comments concerning the application, draft CCAA, or other related documents should be submitted in writing to the Field Supervisor, U.S. Fish and Wildlife Service, Arizona Ecological Services Field Office, 2321 W. Royal Palm Rd. Ste. 103, Phoenix, Arizona 85021. Please refer to permit number TE-174351-0 when submitting comments.

FOR FURTHER INFORMATION CONTACT: Mike Martinez at the U.S. Fish and Wildlife Service, Arizona Ecological Services Field Office, 2321 W. Royal Palm Rd. Ste. 103, (602/242-0210 ext. 224), or by e-mail at mike_martinez@fws.gov.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

The Applicant plans to implement improvements that are expected to enhance and maintain Page springsnail habitat, create additional habitat, reestablish populations of the species, and enroll private lands of willing landowners under certificates of inclusion to conduct similar measures, in Yavapai, Arizona. If conservation actions identified in the CCAA were implemented across the entire range of the species, we expect the need to list the Page springsnail would be ameliorated.

The draft CCAA and permit application are eligible for categorical exclusion under the National Environmental Policy Act of 1969, based upon completion of a checklist.

Section 9 of the Act prohibits the “taking” of threatened or endangered species. However, the Service, under limited circumstances, may issue permits to take threatened and endangered wildlife species incidental to, and not the purpose of, otherwise lawful activities.

We provide this notice under section 10(c) of the Act (16 U.S.C. 1531, et seq.) and its implementing regulations (50 CFR 17.22), and the National Environmental Policy Act (42 U.S.C. 4371, et seq.) and its implementing regulations (40 CFR 1506.6).

Christopher Jones,
Acting Regional Director, Region 2, Albuquerque, New Mexico.

[FR Doc. E8-1485 Filed 1-28-08; 8:45 am]

BILLING CODE 4510-55-P